SUSQUEHANNA RIVER BASIN COMMISSION

Grandfathering Registration Notice

AGENCY: Susquehanna River Basin Commission.

ACTION: Notice.

SUMMARY: This notice lists Grandfathering Registration for projects by the Susquehanna River Basin Commission during the period set forth in DATES.

DATES: January 1-31, 2020.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists GF Registration for projects, described below, pursuant to 18 CFR 806, Subpart E for the time period specified above: Grandfathering Registration Under 18 CFR part 806, subpart E:

1. Duncansville Municipal Authority—Public Water Supply System, GF Certificate No. GF-202001075, Borough of Duncansville and Allegheny Township, Blair County, Pa.; Well 2; Issue Date: January 24, 2020.

2. Leatherstocking Corporation dba Otesaga Hotel—Leatherstocking Golf Course, GF Certificate No. GF-202001076, Town of Otsego, Otsego County, N.Y.; Otsego Lake and consumptive use; Issue Date: January 24, 2020.

3. Millersburg Area Authority—Public Water Supply System, GF Certificate No. GF-202001077, Millersburg Borough and Upper Paxton Township, Dauphin County, Pa.; Wells 1, 2, 3, 4, and 5, and Springs 1 through 7; Issue Date: January 24, 2020.

4. Village of New Berlin—Public Water Supply System, GF Certificate No. GF-202001078, Town of New Berlin, Chenango County, N.Y.; Sheffield Creamery Well; Issue Date: January 24, 2020.

5. Town of Owego—Water District #4, GF Certificate No. GF-202001079, Town of Owego, Tioga County, N.Y.; Wells 1 and 2; Issue Date: January 24, 2020.

6. Shawville Power, LLC—Shawville Station, GF Certificate No. GF-202001080, Bradford Township, Clearfield County, Pa.; West Branch Susquehanna River and consumptive use; Issue Date: January 24, 2020.

7. West Cocalico Township Authority—Public Water Supply System, GF Certificate No. GF-202001081, West Cocalico Township, Lancaster County, Pa.; Well 1; Issue Date: January 24, 2020.

8. Northern Cambria Municipal Authority—Public Water Supply System, GF Certificate No. GF-202001082, Northern Cambria Borough, Cambria County, Pa.; Hazeltine Mine and Miller Hollow; Issue Date: January 24, 2020.

Authority: Pub. L. 91-575, 84 Stat. 1509 et seq., 18 CFR parts 806 and 808.

Dated: February 6, 2020.
Jason E. Oyler,
General Counsel and Secretary to the Commission.

[FR Doc. 2020-02735 Filed 2-11-20; 8:45 am]

BILLING CODE 7040-01-P